DEPARTMENT OF COMMERCE

National Oceanic and Atmospheric Administration

[RTID 0648-XC369]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's Tilefish Advisory Panel and Communication and Outreach Advisory Panel will meet jointly to discuss future outreach efforts to improve awareness of, and compliance with, private recreational tilefish permitting and reporting requirements.

DATES: The meeting will be held on Wednesday, September 28, 2022, from 10 a.m. to 12 p.m. EDT. For agenda details, see SUPPLEMENTARY INFORMATION.

ADDRESSES: The meeting will be held via webinar. Webinar connection, agenda items, and any additional information will be available at www.mafmc.org/council-events.

Council address: Mid-Atlantic Fishery Management Council, 800 N State Street, Suite 201, Dover, DE 19901; telephone: (302) 674-2331 or on their website at www.mafmc.org.

FOR FURTHER INFORMATION CONTACT: Christopher M. Moore, Ph.D., Executive Director, Mid-Atlantic Fishery Management Council, telephone: (302) 526-5255.

SUPPLEMENTARY INFORMATION: The purpose of the meeting is to solicit input from the Tilefish and the Communication and Outreach Advisory Panels on ways to improve angler awareness of, and compliance with, tilefish permitting and reporting requirements. Advisory Panel input on both methods of communicating with the target audience as well as the content and clarity of communication is requested and will be considered by the Mid-Atlantic Fishery Management Council at the October meeting.

Special Accommodations

The meeting is physically accessible to people with disabilities. Requests for sign language interpretation or other auxiliary aids should be directed to Shelley Spedden at the Council Office, (302) 526-5251, at least 5 days prior to the meeting date.

Authority: 16 U.S.C. 1801 et seq.

Dated: September 9, 2022.
Rey Israel Marquez,
Acting Deputy Director, Office of Sustainable Fisheries, National Marine Fisheries Service.

[FR Doc. 2022-19846 Filed 9-13-22; 8:45 am]

BILLING CODE 3510-22-P